GULF COAST ECOSYSTEM RESTORATION COUNCIL

[Docket No.: 105042015-1111-02]

Council Member Summary Notice of Application Process for Council-Selected Restoration Component Projects and Programs

AGENCY: Gulf Coast Ecosystem Restoration Council (Council).

ACTION: Notice.

SUMMARY: This notice explains the two-phase submission and application process for RESTORE Council members to receive funding under the Council-Selected Restoration Component of the RESTORE Act.

DATES: These provisions are effective upon publication in the Federal Register.

FOR FURTHER INFORMATION CONTACT: Mary Pleffner, Council, telephone number: 813-995-2025.

SUPPLEMENTARY INFORMATION: Under 33 U.S.C. 1321(t)(2) of the Resource and Ecosystems Sustainability, Tourist Opportunities, and Revived Economies of the Gulf Coast States Act of 2012 (RESTORE Act), the Gulf Coast Ecosystem Restoration Council (Council) will fund and implement projects and programs to restore and protect the natural resources, ecosystems, fisheries, marine and wildlife habitats, beaches, and coastal wetlands of the Gulf Coast region pursuant to a published Funded Priorities List (FPL).¹ The Council published the “Council Member Proposal Submission Guidelines for Comprehensive Plan Funded Priorities List of Projects and Programs” on its Web site on August 21, 2014. This document contains overarching submission guidelines for Council member agencies and States to submit projects and programs for possible inclusion on the FPL. The Council will periodically request proposals from its eleven State and Federal members in order to develop further FPLs.

¹ The FPL will be a supplement to the previously published Initial Comprehensive Plan.

To receive funding under the Council-Selected Restoration Component of the RESTORE Act, Council members must take part in a two-phase submission and application process. Both phases of the submission and application process must be completed before a member will receive an official award from the Council and be able to receive grant funding.

In the first phase, projects and programs must be selected for inclusion on the FPL. The Council members are the only entities eligible to submit proposals for the FPL. The Council will select projects and programs for inclusion in the FPL using the review and selection process described in the “Council Member Proposal Submission Guidelines for Comprehensive Plan Funded Priorities List of Projects and Programs.” The Council will then publish the draft FPL, accept and respond to public comments, and publish the final FPL as an addendum to the Initial Comprehensive Plan.

After publication of the final FPL, the second phase of the application process begins by requiring the submission of a full grant application or interagency agreement for each individual project or program by the Council member who is designated as the primary recipient. This second phase, the grant application phase, is not competitive. After a project or program has been selected under phase 1, the actual grant awards (with State Council members) or interagency agreements (with Federal agency Council members) are entered into through the administrative process. The Council members are the only entities eligible to enter into grant awards or interagency agreements. All State Council member projects or programs selected for funding under the FPL must apply for a grant to implement the project or program described in the proposal. All Federal agency Council member projects or proposals selected for funding under the FPL must work with the Council to create an Interagency Agreement.

Detailed information about the grant application phase process will be published at a later date. Example forms and documents that may be required in the full grant application package are listed below:

• Standard Forms (SF-424 family);

• Council-specific forms;

• Detailed Project Narrative;

• Detailed Budget Narrative;

• Organizational Risk Assessment;

• Council and Government-wide Certifications; and

• Environmental Compliance Documentation, as applicable.

Will D. Spoon,
Program Analyst, Gulf Coast Ecosystem Restoration Council.

[FR Doc. 2015-10357 Filed 5-1-15; 8:45 am]

BILLING CODE 6560-58-P